FEDERAL LABOR RELATIONS AUTHORITY

5 CFR Part 2424

Negotiability Proceedings

Corrections

In Rule Document C1-2023-19269, appearing on page 69873 in the issue of Tuesday, October 10, 2023, make the following correction:

§ 2424.25 [Corrected]

1. On page 69873, beginning in the first column, amendatory instruction 6 should read:

6. On page 62458, in the first column, in the twenty-fourth line from the bottom, “© Content.” should read, “(c) Content.”

[FR Doc. C2-2023-19269 Filed 10-11-23; 8:45 am]

BILLING CODE 0099-10-P